DEPARTMENT OF HEALTH AND HUMAN SERVICES

National Institutes of Health

National Institute on Alcohol Abuse and Alcoholism; Amended Notice of Meeting

Notice is hereby given of a change in the meeting of the National Advisory Council on Alcohol Abuse and Alcoholism, June 6, 2019, 1:30 p.m. to June 6, 2019, 2:15 p.m., National Institutes of Health, National Institute on Alcohol Abuse and Alcoholism, 6700B Rockledge Drive, Room 1206, Bethesda, MD 20892, which was published in the Federal Register on May 17, 2019, 84 FR 22502.

This meeting notice is amended to change the start time to 1:00 p.m. and the end time to 2:00 p.m. The meeting is closed to the public.

Dated: May 22, 2019.
Melanie J. Pantoja,
Program Analyst, Office of Federal Advisory Committee Policy.

[FR Doc. 2019-11143 Filed 5-28-19; 8:45 am]

BILLING CODE 4140-01-P